DEPARTMENT OF COMMERCE

National Oceanic and Atmospheric Administration

50 CFR Part 679

[I.D. 090701F]

Fisheries of the Exclusive Economic Zone Off Alaska; King and Tanner Crab Fisheries in the Bering Sea/Aleutian Islands

AGENCY: National Marine Fisheries Service (NMFS), National Oceanic and Atmospheric Administration (NOAA), Commerce.

ACTION: Reopening of scoping and comment period.

SUMMARY: NMFS is reopening the scoping and comment period for the Environmental Impact Statement (EIS) on the Fishery Management Plan for Bering Sea/Aleutian Islands (BSAI) King and Tanner Crabs (FMP).

DATES: Written comments must be received by December 10, 2001.

ADDRESSES: Written comments on issues and alternatives for the EIS should be sent to Sue Salveson, Assistant Regional Administrator for Sustainable Fisheries, Alaska Region, NMFS, P.O. Box 21668, Juneau, AK, 99802, Attn: Lori Gravel, or delivered to the Federal Building, 709 West 9th Street, Juneau, AK, 99802. Comments may be sent via facsimile (fax) to 907-586-7557. NMFS will not accept comments by e-mail or Internet.

FOR FURTHER INFORMATION CONTACT: Gretchen Harrington, (907) 586-7228 or email gretchen.harrington@noaa.gov.

SUPPLEMENTARY INFORMATION: NMFS published in the Federal Register a notice of intent to prepare an EIS on the BSAI crab FMP that announced scoping meetings and requested written public comments (66 FR 48410, September 20, 2001). The reason for undertaking the analysis, and the issues to be analyzed, are detailed in that notice of intent and not repeated here.

Scoping for the EIS began on September 20, 2001. This notice reopens the scoping period from November 16 to December 10, 2001, to provide the public with additional time to submit written comments. NMFS is reopening the scoping period at the request of members of the public. No further public scoping meetings are presently planned or anticipated.

Scoping is an early and open process for determining the scope of issues to be addressed and for identifying the significant issues related to the proposed action. A principal objective of the scoping and public involvement process is to identify a reasonable range of management alternatives that, with adequate analysis, will delineate critical issues and provide a clear basis for distinguishing among those alternatives and selecting a preferred alternative.

NMFS is seeking written public comments on the scope of issues that should be addressed in the EIS, the range of alternatives that should be considered for management of the BSAI crab fisheries, and on the environmental, social, and economic issues to be considered in the analysis.

The proposed action to be addressed in the EIS is the rationalization of the BSAI crab fisheries. An EIS is necessary to take a programmatic look at the FMP and possible alternatives to the FMP in light of proposed programs to rationalize the BSAI crab fisheries. The rationalization programs under consideration will result in substantial changes to many of the current management measures and possibly the framework of the FMP. These programmatic changes may significantly affect the environment.

Given this proposed action, the scope of the EIS will be a programmatic review of the FMP, examining all activities addressing the conduct of the BSAI crab fisheries, including components of proposed rationalization programs and potential changes to the management of the fisheries under these programs. The scope of the analysis is intended to be broad enough for the North Pacific Fishery Management Council and NMFS to make an informed decision on a rationalization program and undertake further analysis of other changes to the FMP as necessary with the implementation of these programs.

Authority: 16 U.S.C. 1801 et seq.

Dated: November 26, 2001.
Jonathan Kurland
Acting Director, Office of Sustainable Fisheries, National Marine Fisheries Service.

[FR Doc. 01-29772 Filed 11-27-01; 3:39 pm]

BILLING CODE 3510-22-S